DEPARTMENT OF AGRICULTURE

Natural Resources Conservation Service

North Forest Acres Levee/Road Project, City of Seward, Alaska

AGENCY: Natural Resources Conservation Service, USDA.

ACTION: Notice of Finding of No Significant Impact.

SUMMARY: Pursuant to section 102(2)(C) of the National Environmental Policy Act of 1969; the Council on Environmental Quality Guidelines (40 CFR part 1500); and the Natural Resources Conservation Service, U.S. Department of Agriculture, gives notice of a Finding of No Significant Impact according to the Environmental Assessment of the North Forest Acres Road/Levee Project.

FOR FURTHER INFORMATION CONTACT: Shirley Gammon, State Conservationist, Natural Resources Conservation Service, 800 West Evergreen, Suite 100, Palmer, Alaska 99645-6539; telephone: (907) 761-7760.

SUPPLEMENTARY INFORMATION: The environmental assessment of this Federally assisted action indictes that there will be no significiant environmental impacts. As a result of these findings, Shirley Gammon, State Conservationist, has determined that the project should be completed as outlined in the assessment document. The objective of the North Forest Acres Road/Levee Project is to complete one part of a suite of action undertaken to minimize flooding damages to the city of Seward. The selected alternative is approximately 4,100 feet of levee topped by an asphalt paved road. Alternatives evaluated were No Action, four west alignments of the levee, and three east alignments. The selected alternatives are the West 2b (3,530 LF) and the East 3 (550 LF). These alternatives were selected because they have no stream crossings of Japanese Creek, and no culverts or flood gates to operate and maintain. These selected alignments mimimize impact to wetlands. Encroachment on the floodplain is mimimal and results in no significant rise of flood waters in Resurrection River.

A limited number of copies of the EA are available to fill single copy requests at the above address. Basic data developed during the environmental assessment are on file and may be reviewed by contacting Shirley Gammon.

Further information on the proposed action may be obtained from Shirley Gammon, State Conservationist, at the above address.

Dated: January 8, 2004.
Shirley Gammon,
State Conservationist.

Finding of No Significant Impact

The National Environmental Policy Act of 1969 (NEPA) requires Federal agencies to prepare an Environmental Impact Statement (EIS) for major Federal actions significantly affecting the quality of the human environment. I have preliminarily determined, based upon the evaluation of impacts in the Environmental Assessment (EA), attached hereto and made a part hereof, and the reasons provided below, that there will be no significant individual or cumulative impacts on the quality of the human environment as a result of implementing the North Forest Acres Levee/Road Project in Seward, Alaska. In particular, there will be none of the significant adverse impacts which NEPA is intended to help decision makers avoid and mitigate against. Therefore, an EIS is not required.

The city of Seward, Alaska has experienced flooding damages from the Resurrection River and Japanese Creek several times in the past. Damages from the 1995 flood alone amounted to 9.8 million dollars. A multi-agency task force recommended five complimentary actions to minimize the risk of future damages. Three of these actions (a levee on Japanese Creek, dredging at the mouth of the Resurrection River and widening of the highway bridges) have been completed. The Resurrection River Levee/Road Project, along with widening the railroad bridges are the final components of the flood control strategy. Congress has authorized funding for this project in the Natural Resources Conservation Service (NRCS) budget.

Several meetings were held (EA, page 6) to assess public opinion and concerns regarding the project. At these meetings issues regarding impacts to the creek, concerns about commercial traffic, impacts to private property, hydrologic effects to the floodplain and road impacts to residents were identified (EA, page 4). Each of the alternatives considered in the EA is examined in regard to these concerns.

Four west alignments and three east alignments of the levee/road were examined along with a “no action” alternative. Each of the alternatives would extend from the completed Japanese Creek levee at the upstream end and connect with the Seward Highway at the downstream end. The selected alternatives are the West 2b (3,530 LF) and the East 3 (550 LF). These alternatives were selected because they have no stream crossings of Japanese Creek, and no culverts or flood gates to operate and maintain. These alignments minimize impact to wetlands. Encroachment on the floodplain is minimal and results in no significant rise of flood waters in Resurrection River.

Based on the information presented in the North Forest Levee/Road Project EA, I find that the proposed action is not a major Federal action significantly affecting the quality of the human environment. Therefore, an EIS will not be prepared.

Dated: January 8, 2004.
Shirley Gammon,
Alaska State Conservationist, Natural Resources Conservation Service, USDA.

[FR Doc. 04-727 Filed 1-13-04; 8:45 am]

BILLING CODE 3410-16-P